ENVIRONMENTAL PROTECTION AGENCY

[FRL-9944-63-OA]

Notification of a Cancellation of a Public Teleconference of the Science Advisory Board's Economy-Wide Modeling Panel

AGENCY: Environmental Protection Agency (EPA).

ACTION: Notice of cancellation.

SUMMARY: The Environmental Protection Agency's (EPA), Science Advisory Board (SAB) Staff Office is cancelling the May 19, 2016, teleconference of the Economy-Wide Modeling Panel announced earlier (80 FR 77625-77626).

DATES: The May 19, 2016, teleconference of the SAB Economy-Wide Modeling Panel has been cancelled. The July 19-20, 2016, face-to-face meeting of the Economy-Wide Modeling Panel previously announced (80 FR 77625-77626, December 15, 2015) will be held as scheduled.

Dated: March 29, 2016.
Thomas H. Brennan,
Deputy Director, EPA Science Advisory Board Staff Office.

[FR Doc. 2016-07807 Filed 4-4-16; 8:45 am]

BILLING CODE 6560-50-P